DEPARTMENT OF ENERGY

Federal Energy Regulatory Commission

Combined Notice of Filings #1

Take notice that the Commission received the following electric corporate filings:

Docket Numbers: EC12-144-000.

Applicants: San Luis Solar LLC.

Description: San Luis Solar LLC submits an Application for authorization of a sale/leaseback transaction related to the financing of a 30 MW solar-powered electric generating facility.

Filed Date: 9/21/12.

Accession Number: 20120921-5165.

Comments Due: 5 p.m. ET 10/12/12.

Take notice that the Commission received the following electric rate filings:

Docket Numbers: ER11-1933-002; ER10-2441-002.

Applicants: Green Mountain Power Corporation, Central Vermont Public Service Corporation.

Description: Green Mountain Power Corporation and Central Vermont Public Service Corporation Supplement to Notice of Material Change in Status, et al.

Filed Date: 9/7/12.

Accession Number: 20120907-5086.

Comments Due: 5 p.m. ET 9/28/12.

Docket Numbers: ER12-2436-001.

Applicants: Arizona Public Service Company.

Description: Compliance Filing for Service Agreement No. 324, Foothills Solar LGIA to be effective 8/30/2012.

Filed Date: 9/24/12.

Accession Number: 20120924-5057.

Comments Due: 5 p.m. ET 10/15/12.

Docket Numbers: ER12-2601-001.

Applicants: Rayonier Performance Fibers, LLC.

Description: Supplement to Application for Market-Based Rate Authorization to be effective 9/8/2012.

Filed Date: 9/21/12.

Accession Number: 20120921-5129.

Comments Due: 5 p.m. ET 10/12/12.

Docket Numbers: ER12-2674-000.

Applicants: AEP Texas North Company.

Description: TNC-SWTEC Amd #1 to Restated & Amended IA to be effective 8/28/2012.

Filed Date: 9/21/12.

Accession Number: 20120921-5130.

Comments Due: 5 p.m. ET 10/12/12.

Docket Numbers: ER12-2675-000.

Applicants: Power Receivable Finance, LLC.

Description: MBR Cancellation to be effective 11/20/2012.

Filed Date: 9/21/12.

Accession Number: 20120921-5131.

Comments Due: 5 p.m. ET 10/12/12.

Docket Numbers: ER12-2676-000.

Applicants: Piedmont Green Power, LLC.

Description: Application for Market-Based Rate Authority and tariff filing to be effective 9/24/2012.

Filed Date: 9/21/12.

Accession Number: 20120921-5132.

Comments Due: 5 p.m. ET 10/12/12.

Docket Numbers: ER12-2677-000.

Applicants: California Independent System Operator Corporation.

Description: 2012-09-21 CAISO Certificate of Concurrence Filing re Tulloch Powerhouse LGIA to be effective 3/31/2012.

Filed Date: 9/21/12.

Accession Number: 20120921-5133.

Comments Due: 5 p.m. ET 10/12/12.

Docket Numbers: ER12-2678-000.

Applicants: Wisconsin Electric Power Company.

Description: Blackstart Resource Service Agreement to be effective 7/1/2013.

Filed Date: 9/24/12.

Accession Number: 20120924-5000.

Comments Due: 5 p.m. ET 10/15/12.

Docket Numbers: ER12-2679-000.

Applicants: Southern California Edison Company.

Description: SGIA and Distribution Service Agreement Aikyum Deep Creek Solar Project to be effective 9/25/2012.

Filed Date: 9/24/12.

Accession Number: 20120924-5056.

Comments Due: 5 p.m. ET 10/15/12.

Take notice that the Commission received the following electric securities filings:

Docket Numbers: ES12-56-000.

Applicants: Consolidated Edison Company of New York,

Description: Consolidated Edison Company of New York, Inc's Application for an order pursuant to Section 204 of the Federal Power Act authorizing the issue and sale of short-term debt not in excess of $2.25 billion at any one time outstanding.

Filed Date: 9/21/12.

Accession Number: 20120921-5164.

Comments Due: 5 p.m. ET 10/12/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2012.
Nathaniel J. Davis, Sr.,
Deputy Secretary.

[FR Doc. 2012-24042 Filed 9-28-12; 8:45 am]

BILLING CODE 6717-01-P